DEPARTMENT OF HEALTH AND HUMAN SERVICES

Centers for Disease Control and Prevention

Disease, Disability, and Injury Prevention and Control Special Emphasis Panel: A Community-Based Intervention With Opinion Leaders to Achieve Syphilis Elimination, Program Announcement 02044

In accordance with section 10(a)(2) of the Federal Advisory Committee Act (Pub. L. 92-463), the Centers for Disease Control and Prevention (CDC) announces the following meeting:

Name: Disease, Disability, and Injury Prevention and Control Special Emphasis Panel (SEP): A Community-Based Intervention with Opinion Leaders to Achieve Syphilis Elimination, PA# 02044.

Times and Dates: 9 a.m.-9:30 a.m., August, 15, 2002 (Open), 9:30 a.m.-4:30 p.m., August 15, 2002 (Closed).

Place: Centers for Disease Control and Prevention 12 Corporate Square Boulevard—Room 1307 Atlanta, GA 30329

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to PA# 02044.

Contact Person for More Information: Beth Wolfe, Prevention Support Office, National Center for HIV, STD, and TB Prevention, CDC, 1600 Clifton Road NE MS E-07, Atlanta, Georgia 30333, 404-639-8025.

The Director, Management Analysis and Services Office has been delegated the authority to sign Federal Register notices pertaining to announcements of meetings and other committee management activities, for both the Centers for Disease Control and Prevention and the Agency for Toxic Substances and Disease Registry.

Joe E. Salter,
Acting Director, Management Analysis and Services Office, Centers for Disease Control and Prevention (CDC).

[FR Doc. 02-19402 Filed 7-29-02; 12:22 pm]

BILLING CODE 4163-18-P